SECURITIES AND EXCHANGE COMMISSION

[Release No. 34-50928; File No. SR-BSE-2004-59]

Self-Regulatory Organizations; Notice of Filing and Immediate Effectiveness of Proposed Rule Change by the Boston Stock Exchange, Inc. To Amend the Exchange's Rule Relating to its Regulatory Transaction Fee

Correction

In notice document 04-28669 beginning on page 126 in the issue of Monday, January 3, 2005, make the following correction:

On page 128, in the first column, in the 10th line from the top, “January 24,2009” should read “January 24, 2005”.

[FR Doc. C4-28669 Filed 1-12-05; 8:45 am]

BILLING CODE 1505-01-D

SECURITIES AND EXCHANGE COMMISSION

[Release No. 34-50934; File No. SR-Amex-2004-108]

Self-Regulatory Organizations; American Stock Exchange LLC; Notice of Filing and Immediate Effectiveness of Proposed Rule Change Relating to Odd-Lots in Nasdaq Securities

December 27, 2004.

Correction

In notice document 05-79 beginning on page 412 in the issue of Tuesday, January 4, 2005 make the following correction:

On page 414, in the first column, in the 18th line from the top, “January 21, 2005” should read “January 25, 2005.”

[FR Doc. C5-79 Filed 1-12-05; 8:45 am]

BILLING CODE 1505-01-D